DEPARTMENT OF COMMERCE

International Trade Administration

[C-570-953]

Narrow Woven Ribbons with Woven Selvedge From the People's Republic of China: Final Results of Countervailing Duty Administrative Review; 2017

AGENCY: Enforcement and Compliance, International Trade Administration, Department of Commerce.

SUMMARY: The Department of Commerce (Commerce) determines that Yama Ribbons and Bows Co., Ltd (Yama) an exporter/producer of narrow woven ribbons with woven selvedge (Ribbons) from the People's Republic of China (China), received countervailable subsidies during the period of review (POR) January 1, 2017 through December 31, 2017.

DATES: Applicable February 25, 2020.

FOR FURTHER INFORMATION CONTACT: Terre Keaton Stefanova or Ian Hamilton AD/CVD Operations, Office II, Enforcement and Compliance, International Trade Administration, U.S. Department of Commerce, 1401 Constitution Avenue NW, Washington, DC 20230; telephone: (202) 482-1280 or (202) 482-4798, respectively.

SUPPLEMENTARY INFORMATION:

Background

The events that occurred since Commerce published the Preliminary Results ¹ on August 23, 2019 are discussed in the Issues and Decision Memorandum, which is hereby adopted this notice.²

¹ See Narrow Woven Ribbons with Woven Selvedge from the People's Republic of China: Preliminary Results of Countervailing Duty Administrative Review; 2017, 84 FR 44281 (August 23, 2019) (Preliminary Results).

² See Memorandum, “Decision Memorandum for the Final Results of 2017 Countervailing Duty Administrative Review: Narrow Woven Ribbons with Woven Selvedge from the People's Republic of China,” dated concurrently with, and hereby adopted by, this notice (Issues and Decision Memorandum).

In October 2019, we verified Yama's questionnaire responses.³ On December 10, 2019, Commerce extended the deadline for the final results of this administrative review until February 19, 2020.⁴

³ See Memorandum, “2017 Administrative Review of the Countervailing Duty Order on Narrow Woven Ribbons from the People's Republic of China: Verification of the Questionnaire Responses of Yama Ribbons and Bows Co., Ltd.,” dated November 6, 2019.

⁴ See Memorandum, “Narrow Woven Ribbons from the People's Republic of China: Extension of Deadline for the Final Results of Countervailing Duty Administrative Review,” dated December 10, 2019.

Scope of the Order

The merchandise covered by the order is narrow woven ribbons with woven selvedge from China.⁵ The product is currently classified under the following Harmonized Tariff Schedule of the United States (HTSUS) item numbers: 5806.32.1020, 5806.32.1030, 5806.32.1050, 5806.32.1060, 5806.31.00, 5806.32.20, 5806.39.20, 5806.39.30, 5808.90.00, 5810.91.00, 5810.99.90, 5903.90.10, 5903.90.25, 5907.00.60, 5907.00.80, 5806.32.1080, 5810.92.9080, 5903.90.3090, and 6307.90.9889. Although the HTSUS numbers are provided for convenience and customs purposes, the written product description remains dispositive.

⁵ For a complete description of the scope of the order, see Preliminary Results and accompanying Preliminary Decision Memorandum.

Analysis of Comments Received

All issues raised in interested parties' briefs are addressed in the Issues and Decision Memorandum accompanying this notice. A list of the issues raised by interested parties and to which we responded in the Issues and Decision Memorandum is provided in the Appendix to this notice. The Issues and Decision Memorandum is a public document and is on file electronically via Enforcement and Compliance's Antidumping and Countervailing Duty Centralized Electronic Service System (ACCESS). ACCESS is available to registered users at https://access.trade.gov and in the Central Records Unit, Room B8024 of the main Commerce building. In addition, a complete version of the Issues and Decision Memorandum can be access directly at http://enforcement.trade.gov/frn/. The signed and electronic versions of the Issues and Decision Memorandum are identical in content.

Changes Since the Preliminary Results

While we made no changes to the Preliminary Results as a result of our analysis of the comments received from the interested parties, we made corrections to our subsidy rate calculations for certain programs.⁶

⁶ See Memorandum, “Final Results Calculation Memorandum for Yama Ribbons,” dated concurrently with, and hereby adopted by, this notice (Final Calculation Memorandum).

Final Results of Administrative Review

In accordance with 19 CFR 351.221(b)(5), we calculated a countervailable subsidy rate for the producer/exporter under review as follows:

Company | Subsidy rate (percent)
Yama Ribbons and Bows Co., Ltd. | 31.87

Assessment Rates

Consistent with 19 CFR 351.212(b)(2), we intend to issue assessment instructions to U.S. Customs and Border Protection (CBP) 15 days after the date of publication of these final results of review. Commerce will instruct CBP to liquidate shipments of subject merchandise produced and/or exported by the company listed above, entered, or withdrawn from warehouse, for consumption, on or after January 1, 2017 through December 31, 2017, at the ad valorem rate listed above.

Cash Deposit Instructions

Commerce intends also to instruct CBP to collect cash deposits of estimated countervailing duties in the amount shown above for Yama, on shipments of subject merchandise entered, or withdrawn from warehouse, for consumption on or after the date of publication of the final results of this review. For all non-reviewed firms, Commerce will instruct CBP to continue to collect cash deposits at the most recent company-specific or all-others rate applicable to the company, as appropriate. Accordingly, the cash deposit requirements that will be applied to companies covered by this order, but not examined in this administrative review, are those established in the most recently completed segment of the proceeding for each company. These cash deposit requirements, when imposed, shall remain in effect until further notice.

Administrative Protective Orders

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

Notification to Interested Parties

We are issuing and publishing these results in accordance with sections 751(a)(1) and 777(i)(1) of the Act.

Dated: February 19, 2020.
Jeffrey I. Kessler,
Assistant Secretary for Enforcement and Compliance.

Appendix

List of Topics Discussed in the Issues and Decision Memorandum

I. Summary

II. Background

III. Use of Adverse Facts Available and Adverse Inferences

IV. Subsidies Valuation Information

V. Programs Determined to be Countervailable

VI. Programs Determined not to Provide Measurable Benefits During the POR

VII. Programs Determined not to be Used During the POR

VIII. Analysis of Comments

Comment 1: The Application of Adverse Facts Available (AFA) to the Provision of Synthetic Yarn and Caustic Soda for Less-than-Adequate Remuneration

Comment 2: The Application of AFA to the Export Buyer's Credit Program

IX. Recommendation

[FR Doc. 2020-03738 Filed 2-24-20; 8:45 am]

BILLING CODE 3510-DS-P